FEDERAL COMMUNICATIONS COMMISSION

47 CFR Part 73

[DA 23-1179; MB Docket No. 23-302; RM-11965; FR ID 193053]

Radio Broadcasting Services; Lac Du Flambeau, Wisconsin

AGENCY: Federal Communications Commission.

ACTION: Final rule.

SUMMARY: This document amends the Table of FM Allotments, of the Federal Communications Commission's (Commission) rules, by allotting FM Channel 225A at Lac Du Flambeau, Wisconsin, as a Tribal Allotment. The staff engineering analysis indicates that Channel 225A can be allotted to Lac Du Flambeau, Wisconsin, consistent with the minimum distance separation requirements of the Commission's rules, with a site restriction of 12.1 km (7.5 miles) northwest of the community. The reference coordinates are 46-01-14 NL and 89-44-54 WL.

DATES: Effective February 2, 2024.

FOR FURTHER INFORMATION CONTACT: Rolanda F. Smith, Media Bureau, (202) 418-2054, Rolanda-Faye.Smith@fcc.gov.

SUPPLEMENTARY INFORMATION: This is a synopsis of the Commission's Report and Order, adopted December 18, 2023, and released December 19, 2023. The full text of this Commission decision is available online at https://apps.fcc.gov/ecfs/. The full text of this document can also be downloaded in Word or Portable Document Format (PDF) at https://www.fcc.gov/edocs. This document does not contain information collection requirements subject to the Paperwork Reduction Act of 1995, Public Law 104-13.

The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), amend the Table of FM Allotments under Wisconsin, by adding in alphabetical order an entry for “Lac Du Flambeau” to read as follows:

§ 73.202 Table of Allotments.

* * * * *

(b) Table of FM Allotments.

Table 1 to Paragraph (b)
U.S. States | Channel No.
* * * * *
Wisconsin
* * * * *
Lac Du Flambeau | 225A
* * * * *

* * * * *

[FR Doc. 2023-28468 Filed 12-28-23; 8:45 am]

BILLING CODE 6712-01-P